DEPARTMENT OF ENERGY

Federal Energy Regulatory Commission

[Docket No. OR12-3-000]

Tesoro Refining and Marketing Company v. SFPP, L.P.; Notice of Complaint

Take notice that on October 5, 2011, pursuant to Rule 206 of the Rules of Practice and Procedure of the Federal Energy Regulatory Commission (Commission), 18 CFR 385.206; the Procedural Rules Applicable to Oil Pipeline Proceedings, 18 CFR 343.2; and section 1(13) of the Interstate Commerce Act (ICA), 49 U.S.C. App. 13(1), Tesoro Refining and Marketing Company (Complainant) filed a formal complaint against SFPP L.P. (Respondent), challenging the lawfulness of the indexed increases in ceiling rates filed by the Respondent on September 20, 2011 in Docket No. IS11-585-000 and alleging that the Respondent will violate the ICA by applying the increased ceiling rates which are unjust and unreasonable for the Respondent's jurisdictional interstate service.

The Complainant stated that copies of the complaint have been served on the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 26, 2011.

Dated: October 6, 2011.
Kimberly D. Bose,
Secretary.

[FR Doc. 2011-26572 Filed 10-13-11; 8:45 am]

BILLING CODE 6717-01-P